DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before April 16, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-064-C.

Petitioner: Omega Mining, Inc., P.O. Box 929, Honaker, Virginia 24260.

Mine: Beehive Mine, MSHA I.D. No. 44-05411 and Hatfield Mine, MSHA I.D. No. 44-07104, located in Russell County, Virginia.

Regulation Affected: 30 CFR 75.1506(c)(1) (Refuge alternatives).

Modification Request: The petitioner requests a modification of the existing standard to permit an alternative method to maintain a refuge alternative to within 1,000 feet of the working face but be allowed to develop a maximum 200 feet inby the 1,000 foot location prior to the installation of the refuge alternative to its Beehive and Hatfield Mines. This will allow the refuge alternative to be installed adjacent to the loading point of the active section while not interfering with ventilation or haulage. The petitioner states that: (1) Both the aforementioned underground mining operations have an approved Emergency Response Plan with MSHA through District 5; (2) the mining height at both operations averages 42 to 48 inches in overall height; (3) each mine utilizes refuge alternatives (safe havens) constructed of 15 psi block stoppings provided with 15 psi rated metal doors to access the internal area of the refuge alternative; (4) breathable air is supplied by a surface mounted portable fan to each established refuge alternative through pre-drilled vertical boreholes; (5) the breathable air system is a forced air system designed to maintain positive pressure within the refuge alternative at all times; (6) this system is designed to sustain personnel for an indefinite period of time, easily exceeding 96 hours; (7) the borehole design allows for introduction of additional communications, water, food, and correspondence between the surface and underground through letters or other means; (8) the depth of the vertical boreholes should not exceed 300 to 400 feet; (9) strategic surface locations are necessary for providing adequate placement of the boreholes in relation to active underground workings. Flexibility for positioning surface to mine location is very important; (10) constructed refuge alternatives are located in a crosscut entry between the primary and secondary escapeways; (11) each person on the working section is provided with an approved 1 hour SCSR (self-contained self-rescuer) and an approved 10 minute SCSR. An additional approved 1 hour SCSR is provided in the refuge alternative; (12) the modification to the timing of the installation for the working section refuge alternative will not interfere or affect the service and maintenance of the outby refuge alternatives; (13) both of these mines have been in operation for over 5 years and has no record of methane liberation at any time; and (14) all other requirements of the Emergency Response Plan and the Mine Emergency Evacuation and Firefighting Program of Instruction will be complied with. The petitioner asserts that the alternative method will at all times provide the same measure of protection for the miners as the existing standard while eliminating the need for portable type refuge alternatives, and will also allow for safe and sound development of the working face in a limited amount of time and distance where ventilation and haulage will not be interfered upon.

Docket Number: M-2009-065-C.

Petitioner: Blue Diamond Coal Company, P.O. Box 47, Slemp, Kentucky 41763.

Mine: No. 75 Mine, MSHA I. D. No. 15-17478, located in Perry County, Kentucky.

Regulation Affected: 30 CFR 75.513 (Electric conductor; capacity and insulation).

Modification Request: The petitioner requests a modification of the existing standard to permit use of smaller cables than allowed by the National Electric Code for 480 Volt AC 250 H.P. and 300 H.P. head drive motors. The petitioner states that: (1) In lieu of a 350 MCM cable for a 300 H.P. Head Drive motor and a 250 MCM cable for a 250 H.P. Head Drive motor, a 4/0, 90 deg. C. ICEA cable with an ampacity of 329 amps at 20 deg. C ambient will be used; (2) additional protection will be provided for this cable by providing overload devices for the drive motor that are set to pick up at no more than the ampacity of the cable; (3) a 400 amp thermal magnetic breaker will be provided at the beginning of the branch circuit at the power center to protect the cable to no more than 125% of its ampacity; (4) motor circuits will be checked for overload by a handheld ammeter to ensure that the cable ampacity is sufficient periodically during belt advancement and once the belt line length is permanently established; (5) short circuit protection for the motor will continue to be set between 700%-1300% of the motor full load amps, unless a high efficiency motor is used and will not start at these settings. In no case will the motor's short circuit protection be set higher than is currently allowed by the National Electric Code; (6) means will be provided to prevent the motor branch circuit cables from being installed into another circuit breaker that is not a 400 amp thermal magnetic breaker. A warning label will be placed on the belt drive disconnect indicating “400 amp thermal magnetic only”. Otherwise an equivalent circuit breaker with the correct settings will be provided at the power center as the head drive spare; and (7) within sixty (60) days after this petition is granted, the petitioner will submit proposed revisions for its approved 30 CFR Part 48, Subpart A training plan to the District Manager. The petitioner further states that the proposed alternative method will not be implemented until miners have been trained in the proper installation of these circuits and proper examinations to ensure they are maintained. Training will include the following: (a) Training in hazards associated with incorrect circuit breaker setting to protect power cables; (b) training in how to verify that circuit breakers are properly set and maintained; (c) training in how to protect power cables from damage; and (d) training in the proper procedures for examining power cables to ensure the cables are in safe operating condition. The petitioner asserts that the proposed alternative method will at all times guarantee no less than the same measure of protection to all miners at Blue Diamond Coal Company provided by the existing standard.

Docket Number: M-2009-066-C.

Petitioner: Blue Diamond Coal Company, P.O. Box 47, Slemp, Kentucky 41763.

Mine: No. 81 Mine, MSHA I. D. No. 15-12753, located in Leslie County, Kentucky.

Regulation Affected: 30 CFR 75.513 (Electric conductor; capacity and insulation).

Modification Request: The petitioner requests a modification of the existing standard to permit use of smaller cables than allowed by the National Electric Code for 480 Volt AC 250 H.P. and 300 H.P. head drive motors. The petitioner states that: (1) In lieu of a 350 MCM cable for a 300 H.P. Head Drive motor and a 250 MCM cable for a 250 H.P. Head Drive motor, a 4/0, 90 deg. C. ICEA cable with an ampacity of 329 amps at 20 deg. C ambient will be used; (2) additional protection will be provided for this cable by providing overload devices for the drive motor that are set to pick up at no more than the ampacity of the cable; (3) a 400 amp thermal magnetic breaker will be provided at the beginning of the branch circuit at the power center to protect the cable to no more than 125% of its ampacity; (4) motor circuits will be checked for overload by a handheld ammeter to ensure that the cable ampacity is sufficient periodically during belt advancement and once the belt line length is permanently established; (5) short circuit protection for the motor will continue to be set between 700%-1300% of the motor full load amps, unless a high efficiency motor is used and will not start at these settings. In no case will the motor's short circuit protection be set higher than is currently allowed by the National Electric Code; (6) means will be provided to prevent the motor branch circuit cables from being installed into another circuit breaker that is not a 400 amp thermal magnetic breaker. A warning label will be placed on the belt drive disconnect indicating “400 amp thermal magnetic only”. Otherwise an equivalent circuit breaker with the correct settings will be provided at the power center as the head drive spare; and (7) within sixty (60) days after this petition is granted, the petitioner will submit proposed revisions for its approved 30 CFR Part 48, Subpart A training plan to the District Manager. The petitioner further states that the proposed alternative method will not be implemented until miners have been trained in the proper installation of these circuits and proper examinations to ensure they are maintained. Training will include the following: (a) Training in hazards associated with incorrect circuit breaker setting to protect power cables; (b) training in how to verify that circuit breakers are properly set and maintained; (c) training in how to protect power cables from damage; and (d) training in the proper procedures for examining power cables to ensure the cables are in safe operating condition. The petitioner asserts that the proposed alternative method will at all times guarantee no less than the same measure of protection to all miners at Blue Diamond Coal Company provided by the existing standard.

Docket Number: M-2009-067-C.

Petitioner: Blue Diamond Coal Company, P.O. Box 47, Slemp, Kentucky 41763.

Mine: No. 77 Mine, MSHA I.D. No. 15-09636, located in Perry County, Kentucky.

Regulation Affected: 30 CFR 75.513 (Electric conductor; capacity and insulation).

Modification Request: The petitioner requests a modification of the existing standard to permit use of smaller cables than allowed by the National Electric Code for 480 Volt AC 250 H.P. and 300 H.P. head drive motors. The petitioner states that: (1) In lieu of a 350 MCM cable for a 300 H.P. Head Drive motor and a 250 MCM cable for a 250 H.P. Head Drive motor, a 4/0, 90 deg. C. ICEA cable with an ampacity of 329 amps at 20 deg. C ambient will be used; (2) additional protection will be provided for this cable by providing overload devices for the drive motor that are set to pick up at no more than the ampacity of the cable; (3) a 400 amp thermal magnetic breaker will be provided at the beginning of the branch circuit at the power center to protect the cable to no more than 125% of its ampacity; (4) motor circuits will be checked for overload by a handheld ammeter to ensure that the cable ampacity is sufficient periodically during belt advancement and once the belt line length is permanently established; (5) short circuit protection for the motor will continue to be set between 700%-1300% of the motor full load amps, unless a high efficiency motor is used and will not start at these settings. In no case will the motor's short circuit protection be set higher than is currently allowed by the National Electric Code; (6) means will be provided to prevent the motor branch circuit cables from being installed into another circuit breaker that is not a 400 amp thermal magnetic breaker. A warning label will be placed on the belt drive disconnect indicating “400 amp thermal magnetic only”. Otherwise an equivalent circuit breaker with the correct settings will be provided at the power center as the head drive spare; and (7) within sixty (60) days after this petition is granted, the petitioner will submit proposed revisions for its approved 30 CFR Part 48, Subpart A training plan to the District Manager. The petitioner further states that the proposed alternative method will not be implemented until miners have been trained in the proper installation of these circuits and proper examinations to ensure they are maintained. Training will include the following: (a) Training in hazards associated with incorrect circuit breaker setting to protect power cables; (b) training in how to verify that circuit breakers are properly set and maintained; (c) training in how to protect power cables from damage; and (d) training in the proper procedures for examining power cables to ensure the cables are in safe operating condition. The petitioner asserts that the proposed alternative method will at all times guarantee no less than the same measure of protection to all miners at Blue Diamond Coal Company provided by the existing standard.

Docket Number: M-2009-068-C.

Petitioner: Leeco Coal Company, P.O. Box 309, Jeff, Kentucky 41751.

Mine: No. 68 Mine, MSHA I.D. No. 15-17497, located in Perry County, Kentucky.

Regulation Affected: 30 CFR 75.513 (Electric conductor; capacity and insulation).

Modification Request: The petitioner requests a modification of the existing standard to permit use of smaller cables than allowed by the National Electric Code for 480 Volt AC 250 H.P. and 300 H.P. head drive motors. The petitioner states that: (1) In lieu of a 350 MCM cable for a 300 H.P. Head Drive motor and a 250 MCM cable for a 250 H.P. Head Drive motor, a 4/0, 90 deg. C. ICEA cable with an ampacity of 329 amps at 20 deg. C ambient will be used; (2) additional protection will be provided for this cable by providing overload devices for the drive motor that are set to pick up at no more than the ampacity of the cable; (3) a 400 amp thermal magnetic breaker will be provided at the beginning of the branch circuit at the power center to protect the cable to no more than 125% of its ampacity; (4) motor circuits will be checked for overload by a handheld ammeter to ensure that the cable ampacity is sufficient periodically during belt advancement and once the belt line length is permanently established; (5) short circuit protection for the motor will continue to be set between 700%-1300% of the motor full load amps, unless a high efficiency motor is used and will not start at these settings. In no case will the motor's short circuit protection be set higher than is currently allowed by the National Electric Code; (6) means will be provided to prevent the motor branch circuit cables from being installed into another circuit breaker that is not a 400 amp thermal magnetic breaker. A warning label will be placed on the belt drive disconnect indicating “400 amp thermal magnetic only”. Otherwise an equivalent circuit breaker with the correct settings will be provided at the power center as the head drive spare; and (7) within sixty (60) days after this petition is granted, the petitioner will submit proposed revisions for its approved 30 CFR Part 48, Subpart A training plan to the District Manager. The petitioner further states that the proposed alternative method will not be implemented until miners have been trained in the proper installation of these circuits and proper examinations to ensure they are maintained. Training will include the following: (a) Training in hazards associated with incorrect circuit breaker setting to protect power cables; (b) training in how to verify that circuit breakers are properly set and maintained; (c) training in how to protect power cables from damage; and (d) training in the proper procedures for examining power cables to ensure the cables are in safe operating condition. The petitioner asserts that the proposed alternative method will at all times guarantee no less than the same measure of protection to all miners at Leeco Coal Company provided by the existing standard.

Dated: March 12, 2010.
Patricia W. Silvey,
Director, Office of Standards, Regulations and Variances.

[FR Doc. 2010-5786 Filed 3-16-10; 8:45 am]

BILLING CODE 4510-43-P